DEPARTMENT OF THE TREASURY

Submission for OMB Review; Comment Request

November 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 28, 2001 to be assured of consideration.

Internal Revenue Service (IRS)

OMB Number: 1545-1639.

Regulation Project Number: REG-106012-98 Final.

Type of Review: Extension.

Title: Definition of Contribution in Aid of Construction under Section 118(c).

Description: The regulations provide guidance with respect to Section 118(c), which provides that a contribution in aid of construction received by a regulated public water or sewage utility is treated as a contribution to the capital of the utility and excluded from gross income.

Respondents: Business or other for-profit.

Estimated Number of Respondents: 300.

Estimated Burden Hours Per Respondent: 1 hour.

Frequency of Response: Annually.

Estimated Total Reporting Burden: 300 hours.

OMB Number: 1545-1753.

Form Number: IRS Form 10574.

Type of Review: Extension.

Title: Community Based Outlet Program.

Description: Form 10574 will be used by companies, businesses and government agencies to indicate their interest in participating in the IRS Community Based Outlet Program. This form will be returned to the Western Area Distribution Center for processing and order fulfillment.

Respondents: Business or other for-profit, State, Local or Tribal Government.

Estimated Number of Respondents: 500.

Estimated Burden Hours Per Respondent: 5 minutes.

Frequency of Response: On occasion.

Estimated Total Reporting Burden: 42 hours.

Clearance Officer: George Freeland, Internal Revenue Service, Room 5577, 1111 Constitution Avenue, NW, Washington, DC 20224.

OMB Reviewer: Alexander T. Hunt, (202) 395-7860, Office of Management and Budget, Room 10202, New Executive Office Building, Washington, DC 20503.

Mary A. Able,
Departmental Reports, Management Officer.

[FR Doc. 01-29579 Filed 11-27-01; 8:45 am]

BILLING CODE 4830-01-P